DEPARTMENT OF TRANSPORTATION

Federal Aviation Administration

Government/Industry Aeronautical Charting Forum Meeting

AGENCY: Federal Aviation Administration (FAA), DOT.

ACTION: Notice of public meeting.

SUMMARY: This notice announces the bi-annual meeting of the Federal Aviation Administration (FAA) Aeronautical Charting Forum (ACF) to discuss informational content and design of aeronautical charts and related products, as well as instrument flight procedures development policy and design criteria.

DATES: The ACIF is separated into two distinct groups. The Instrument Procedures Group (IPG) will meet April 28, 2009 from 8:30 a.m. to 5 p.m. The Charting Group will meet April 29 and 30, 2009 from 8:30 a.m. to 5 p.m.

ADDRESSES: The meeting will be hosted by the National Geospatial-Intelligence Agency (NGA) and held at the U.S. Geological Survey, 12201 Sunrise Valley Drive, Reston, VA 20192.

FOR FURTHER INFORMATION CONTACT: For information relating to the Instrument Procedures Group, contact Thomas E. Schneider, FAA, Flight Procedures Standards Branch, AFS-420, 6500 South MacArthur Blvd., P.O. Box 25082, Oklahoma City, OK 73125; telephone (405) 954-5852; fax: (405) 954-2528.

For information relating to the Charting Group, contact John A. Moore, FAA, National Aeronautical Charting Office, Requirements and Technology Team, AJW-3521, 1305 East-West Highway, SSMC4-Station 5544, Silver Spring, MD 20910; telephone: (301) 713-2631, fax: (301) 713-1960.

SUPPLEMENTARY INFORMATION: Pursuant to § 10(a)(2) of the Federal Advisory Committee Act (Pub. L. 92-463; 5 U.S.C. App. II), notice is hereby given of a meeting of the FAA Aeronautical Charting Forum to be held from April 28 through April 30, from 8:30 a.m. to 5 p.m. at the National Geospatial-Intelligence Agency (NGA) and held at the U.S. Geological Survey, 12201 Sunrise Valley Drive, Reston, VA 20192.

The Instrument Procedures Group agenda will include briefings and discussions on recommendations regarding pilot procedures for instrument flight, as well as criteria, design, and developmental policy for instrument approach and departure procedures.

The Charting Group agenda will include briefings and discussions on recommendations regarding aeronautical charting specifications, flight information products, as well as new aeronautical charting and air traffic control initiatives.

Attendance is open to the interested public, but will be limited to the space available.

The public must make arrangements by April 10, 2009, to present oral statements at the meeting. The public may present written statements and/or new agenda items to the committee by providing a copy to the person listed in the FOR FURTHER INFORMATION CONTACT section by April 10, 2009. Public statements will only be considered if time permits.

Issued in Washington, DC, on February 26, 2009.
John A. Moore,
Co-Chair, Aeronautical Charting Forum.

[FR Doc. E9-4501 Filed 3-4-09; 8:45 am]

BILLING CODE 4910-13-M